DEPARTMENT OF THE INTERIOR

National Park Service

Notice of Boundary Revision, Big Thicket National Preserve

SUMMARY: This notice announces the revision to the boundary of Big Thicket National Preserve to include the parcel of land known as Tract 223-09. The United States will acquire this tract from The Conservation Fund upon the revision of the boundary. The National Park Service has determined that this boundary revision is necessary and that the acquisition of this tract would make a significant contribution to the purposes for which the preserve was created.

DATES: The effective date of this boundary revision is the date on which this notice is published in the Federal Register.

FOR FURTHER INFORMATION CONTACT: Superintendent, Big Thicket National Preserve, 6044 Farm Road 420, Kountze, Texas 77625 or by telephone 409-951-6700.

SUPPLEMENTARY INFORMATION: The Act establishing Big Thicket National Preserve, as amended in 1993, 16 U.S.C. 698(b), provides that, after notifying the House Committee on Resources and the Senate Committee on Energy and Resources, the Secretary of the Interior is authorized to make this boundary revision. This action will add one parcel composed of 200 acres of land to Big Thicket National Preserve. The National Park Service proposes to purchase this parcel from The Conservation Fund. This parcel is bounded on the north, south, and east by the preserve. The acquisition of this parcel is required to maintain the ecology and the present rural character for which the preserve was created.

The above parcel is depicted as tract number 223-09 on land acquisition segment map 223, having drawing number 175-80,010 dated November, 2004. This map is on file at the National Park Service Land Resources Program Center, Intermountain Region, Santa Fe, New Mexico, and at the Office of the Superintendent at Big Thicket National Preserve, Kountze, Texas.

Michael D. Snyder,
Director, Intermountain Region.

[FR Doc. 06-4709 Filed 5-19-06; 8:45 am]

BILLING CODE 4312-CB-M